DEPARTMENT OF VETERANS AFFAIRS

[OMB Control No. 2900-0160]

Proposed Information Collection (Per Diem for Nursing Home Care of Veterans in State Homes; Per Diem for Adult Day Care of Veterans in State Homes): Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to ensure that nursing home and adult day health care facilities are providing high quality services to Veterans in State homes.

DATES: Written comments and recommendations on the proposed collection of information should be received on or before October 1, 2012.

ADDRESSES: Submit written comments on the collection of information through the Federal Docket Management System (FDMS) at www.Regulations.gov; or to Cynthia Harvey-Pryor, Veterans Health Administration (10P7BFP), Department of Veterans Affairs, 810 Vermont Avenue NW., Washington, DC 20420 or email: cynthia.harvey-pryor@va.gov. Please refer to “2900-0160” in any correspondence. During the comment period, comments may be viewed online through FDMS.

FOR FURTHER INFORMATION CONTACT: Cynthia Harvey-Pryor (202) 461-5870 or FAX (202) 273-9387.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles:

a. Title 38, CFR Parts 51 and 52, State Home Programs.

b. State Home Inspection—Staffing Profile, VA Form 10-3567.

c. State Home Report and Statement of Federal Aid Claimed, VA Form 10-5588.

d. State Home Program Application for Veteran Care—Medical Certification, VA Form 10-10SH.

e. Department of Veterans Affairs Certification Regarding Drug-Free Workplace Requirements for Grantees Other Than Individuals, VA Form 10-0143.

f. Statement of Assurance of Compliance with Section 504 of the Rehabilitation Act of 1973, VA Form 10-0143a.

g. Certification Regarding Lobbying, VA Form 10-0144.

h. Statement of Assurance of Compliance with Equal Opportunity Laws, VA Form 10-0144a.

OMB Control Number: 2900-0160.

Type of Review: Extension of a currently approved collection.

Abstract: VA pays per diem to State homes providing nursing home and adult day health services care to Veterans. VA requires facilities providing nursing home and adult day health care to furnish an application for recognition based on certification; appeal information, application and justification for payment; records and reports which facility management must maintain regarding activities of residents or participants; information relating to whether the facility meets standards concerning residents' rights and responsibilities prior to admission or enrollment, during admission or enrollment, and upon discharge; the records and reports which facilities management and health care professionals must maintain regarding residents or participants and employees; documents pertain to the management of the facilities; food menu planning; pharmaceutical records; and life safety documentation. Without access to such information, VA would not be able to determine whether high quality care is being provided to Veterans.

Affected Public: State, Local or Tribal Government.

Estimated Total Annual Burden:

a. Title 38, CFR Parts 51 and 52, State Home Programs—3,738 hours.

b. State Home Inspection Staffing Profile, VA Form 10-3567—90 hours.

c. State Home Report and Statement of Federal Aid Claimed, VA Form 10-5588—1,080 hours.

d. State Home Program Application for Veteran Care—Medical Certification, VA Form 10-10SH—10,566 hours.

e. Department of Veterans Affairs Certification Regarding Drug-Free Workplace Requirements for Grantees Other Than Individuals, VA Form 10-0143—15 hours.

f. Statement of Assurance of Compliance with Section 504 of the Rehabilitation Act of 1973, VA Form 10-1043a—15 hours.

g. Certification Regarding Lobbying, VA Form 10-0144—15 hours.

h. Statement of Assurance of Compliance with Equal Opportunity Laws, VA Form 10-0144a—15 hours.

Estimated Average Burden per Respondent:

a. Title 38, CFR Parts 51 and 52, State Home Programs—7 minutes.

b. State Home Inspection Staffing Profile, VA Form 10-3567—30 minutes.

c. State Home Report and Statement of Federal Aid Claimed, VA Form 10-5588—30 minutes.

d. State Home Program Application for Veteran Care—Medical Certification, VA Form 10-10SH—30 minutes.

e. Department of Veterans Affairs Certification Regarding Drug-Free Workplace Requirements for Grantees Other Than Individuals, VA Form 10-0143—5 minutes.

f. Statement of Assurance of Compliance with Section 504 of the Rehabilitation Act of 1973, VA Form 10-1043a—5 minutes.

g. Certification Regarding Lobbying, VA Form 10-0144—5 minutes.

h. Statement of Assurance of Compliance with Equal Opportunity Laws, VA Form 10-0144a—5 minutes.

Frequency of Response: One-time.

Estimated Number of Respondents:

a. Title 38, CFR Parts 51 and 52, State Home Programs—22,926.

b. State Home Inspection Staffing Profile, VA Form 10-3567—180.

c. State Home Report and Statement of Federal Aid Claimed, VA Form 10-5588—180.

d. State Home Program Application for Veteran Care—Medical Certification, VA Form 10-10SH—21,132.

e. Department of Veterans Affairs Certification Regarding Drug-Free Workplace Requirements for Grantees Other Than Individuals, VA Form 10-0143—180.

f. Statement of Assurance of Compliance with Section 504 of the Rehabilitation Act of 1973, VA Form 10-1043a—180.

g. Certification Regarding Lobbying, VA Form 10-0144—180.

h. Statement of Assurance of Compliance with Equal Opportunity Laws, VA Form 10-0144a—180.

Estimated Total Annual Responses:

a. Title 38, CFR Parts 51 and 52, State Home Programs—23,466.

b. State Home Inspection Staffing Profile, VA Form 10-3567—180.

c. State Home Report and State of Federal Aid Claimed, VA Form 10-5588—2,160.

d. State Home Program Application for Veteran Care—Medical Certification, VA Form 10-10SH—21,132.

e. Department of Veterans Affairs Certification Regarding Drug-Free Workplace Requirements for Grantees Other Than Individuals, VA Form 10-0143—180.

f. Statement of Assurance of Compliance with Section 504 of the Rehabilitation Act of 1973, VA Form 10-1043a—180.

g. Certification Regarding Lobbying, VA Form 10-0144—180.

h. Statement of Assurance of Compliance with Equal Opportunity Laws, VA Form 10-0144a—180.

Dated: July 27, 2012.
By direction of the Secretary.
Denise McLamb,
Program Analyst, Enterprise Records Service.

[FR Doc. 2012-18732 Filed 7-31-12; 8:45 am]

BILLING CODE 8320-01-P